FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573.

Acrocargo Express Inc. (NVO & OFF), 7719 Justin Court, West Hills, CA 91304. Officers: Zhenyu (Angela) Shang, Vice President, (Qualifying Individual), Wen X. Xie, President/CEO/Treasurer/CFO. Application Type: New NVO & OFF License.

Advanced Logistics, Inc. (NVO), 3301 NW 97th Avenue, Miami, FL 33172. Officers: Arturo R. Alvarez, Vice President, (Qualifying Individual), Jose R. Castillo, President/Director. Application Type: QI Change.

All Ways International Shipping & CHB, Inc. (OFF), 6610 Tributary Street, Suite 202, Baltimore, MD 21224. Officers: Antony Lester, President, (Qualifying Individual), Daniel G. Ozdinec, Vice President. Application Type: New OFF License.

Altus Oil & Gas Services, Inc. dba Altus Project Logistics, (NVO & OFF), 525 N. Sam Houston E. Parkway, Suite 408, Houston, TX 77060. Officers: Darrell S. Stafford, Vice President, (Qualifying Individual), Michael P. Ellsworth, Director/President/Treasurer. Application Type: New NVO & OFF License.

Barracuda Global Logistics LLC dba BGLSHIP (NVO & OFF), 417 Stamets Road, Milford, NJ 08848. Officer: James Cafro, Member, (Qualifying Individual), Application Type: New NVO & OFF License.

Car Go Worldwide Inc. (NVO), 172 E. Manville Street, Compton, CA 90220. Officers: Lionel Perera, President, (Qualifying Individual), Nirmala Perera, Vice President. Application Type: New NVO License.

Coast Forwarding, LLC (OFF), 1100 West Town and Country Road, #1365, Orange, CA 92868. Officers: Eddy Y. Kuo, Secretary, (Qualifying Individual), John Picard, President. Application Type: QI Change.

Conceptum Logistics (USA), LLC (NVO & OFF), 2203 Timberloch Place, Suite 238, The Woodlands, TX 77380. Officers: Susan Wahrenberger, Managing Director, (Qualifying Individual), Marc Hapanionek, President/CEO. Application Type: New NVO & OFF License.

Confianca Moving, Inc. dba CWM Logistics (NVO), 14452 South Avalon Blvd., Unit E, Gardena, CA 90248. Officers: Maria R. Cursage, President, (Qualifying Individual), Milton Cursage, Vice President. Application Type: QI Change.

Cortrans Logistics, LLC (NVO & OFF), 5335 Triangle Parkway, #450, Norcross, GA 30092. Officers: William J. Brown, Vice President of Ocean Transportation, Shaemus McNally, Vice President of Ocean, (Qualifying Individuals). Application Type: QI Change.

G.P. Logistics, Inc. (NVO & OFF), 9910 NW 21st Street, Miami, FL 33172. Officers: Byron E. Keeler, President, (Qualifying Individual), Valentina Keeler, Vice President. Application Type: QI Change.

Knight Brothers Corp. dba Knight Logistics Services (NVO & OFF), 1881 Alpha Road, Apt. #15, Glendale, CA 91208. Officer: Chia W. Lo, CEO/CFO/Secretary, (Qualifying Individual), Application Type: New NVO & OFF License.

Krown USA, LLC (NVO & OFF), 5361 NW 112th Court, Miami, FL 33178. Officers: Irene Chizmar, Manager, (Qualifying Individual), Kevin Smorenburg, Managing Member. Application Type: New NVO & OFF License.

MCL-Multi Container Line, Inc. (NVO), 7700 N. Kendall Drive, Suite 503, Miami, FL 33156. Officers: Stephan Bucher, Vice President, (Qualifying Individual), Daniel Richner, President. Application Type: QI Change.

Providence Shipping Group, Inc. (NVO), 160 Elder Avenue, Imperial Beach, CA 91931. Officers: Jessica A. Drewnowski, VP Chartering & Operations, (Qualifying Individual), Thomas V. Fontana, President/CEO. Application Type: New NVO.

Sierra International Corp. (NVO & OFF), 14931 Gwenchris Court,Paramount, CA 90723. Officers: Sherif Atalla, COO, (Qualifying Individual), Emil Hakim, CEO. Application Type: New NVO & OFF License.

Sino United Link Corporation (NVO), 248 Tiger Lane, Placentia, CA 92870. Officers: Edmond Chen, Secretary/CFO/Treasurer, (Qualifying Individual), Ye Wang, CEO/President. Application Type: New NVO License.

Star Cluster USA Corp. (NVO & OFF), 5651 Old Dixie Highway, Suite 100, Forest Park, CA 30297. Officer: Kyung H. Chang, CEO/CFO/Secretary, (Qualifying Individual), Application Type: New NVO & OFF License.

TTS Worldwide, LLC (NVO), 1764 Quarter Street, West Babylon, NY 11704. Officers: Bernadette Proctor, Vice President, (Qualifying Individual), Robert Cole, President. Application Type: QI Change.

Tyelley Enterprises Inc. (NVO), 117 Cornell Park Avenue, Markham, Ontario L6B 1B6 Canada. Officers: Yi (aka Shirley) Mo, Vice President/Director, (Qualifying Individual), Xiao F. Lu, President/Director. Application Type: New NVO License.

Uni Freight USA Inc. (NVO), 7653 Telegraph Road, Montebello, CA 90640. Officers: Benjamin Lam, Secretary/CFO, (Qualifying Individual), Thomas Chung, President. Application Type: New NVO License.

Your Connexion, Inc. (NVO & OFF), 13280 SW 131 Street, #108, Miami, FL 33186. Officer: Mauricio R. Valencia, President, (Qualifying Individual), Application Type: New NVO & OFF License.

Dated: September 3, 2010.
Karen V. Gregory,
Secretary.

[FR Doc. 2010-22547 Filed 9-8-10; 8:45 am]

BILLING CODE P